DEPARTMENT OF DEFENSE

Department of the Navy

Notice of Extension of Public Comment Period for the Draft Supplemental Environmental Impact Statement/Overseas Environmental Impact Statement for Mariana Islands Training and Testing

AGENCY: Department of the Navy, DoD.

ACTION: Notice.

SUMMARY: A notice of public meetings was published in the Federal Register by the U.S. Environmental Protection Agency on January 31, 2019 and March 8, 2019 for the Department of the Navy's (DoN) Draft Supplemental Environmental Impact Statement/Overseas Environmental Impact Statement (EIS/OEIS) for the Mariana Islands Training and Testing (MITT) Study Area.

DATES: This notice announces a 15-day extension of the public comment period from April 2, 2019, to April 17, 2019.

ADDRESSES: Comments may be mailed to Naval Facilities Engineering Command Pacific, Attention: MITT Supplemental EIS/OEIS Project Manager, 258 Makalapa Drive, Suite 100, Pearl Harbor, HI 96860-3134, or electronically via the project website at www.MITT-EIS.com. All comments submitted during the public comment period will become part of the public record and substantive comments will be addressed in the Final Supplemental EIS/OEIS. All comments must be postmarked or received online by April 17, 2019, Chamorro Standard Time, for consideration in the Final Supplemental EIS/OEIS.

Naval Facilities Engineering Command Pacific, Attention: MITT Supplemental EIS/OEIS Project Manager, 258 Makalapa Drive, Suite 100, Pearl Harbor, HI 96860-3134.

SUPPLEMENTARY INFORMATION: The Draft Supplemental EIS/OEIS is available electronically for public viewing at www.MITT-EIS.com and at the following public libraries:

1. Robert F. Kennedy Memorial Library, University of Guam, UOG Station, Mangilao, GU 96923-1871.

2. Nieves M. Flores Memorial Library, 254 Martyr St., Hagåtña, GU 96910-5141.

3. Tinian Public Library, San Jose Village, Tinian, MP 96952-9997.

4. Antonio C. Atalig Memorial Library (Rota Public Library), Rota, MP 96951-9997.

5. Joeten-Kiyu Public Library, Beach Road and Insatto St., Saipan, MP 96950-9996.

Dated: March 25, 2019.
M.S. Werner,
Commander, Judge Advocate General's Corps, U.S. Navy, Federal Register Liaison Officer.

[FR Doc. 2019-06028 Filed 3-29-19; 8:45 am]

BILLING CODE 3810-FF-P